DEPARTMENT OF TRANSPORTATION

Coast Guard

33 CFR Part 165

[CGD01-02-131]

RIN 2115-AA97

Safety and Security Zones; Drilling and Blasting Operations, Hubline Project, Captain of the Port Boston, MA

AGENCY: Coast Guard, DOT.

ACTION: Temporary final rule; request for comments.

SUMMARY: The Coast Guard is establishing temporary safety and security zones around the vessels Drillboat No. 8 and Lablift IV to be in effect from November 18, 2002 to February 28, 2003. The safety and security zones will help protect the public from the hazards of marine blasting that will be conducted by these vessels in support of the Hubline Gas Pipeline Project, which entails placing a 30-inch, 800-PSI natural gas pipeline beneath the sea floor from Danvers, MA to Quincy, MA. These zones are in effect only while explosives are on board the vessels and closes all waters 600 yards around the Drillboat No. 8 and Lablift IV 1 hour prior to, during, and one hour after all blasting operations and 400 yards around the Drillboat No. 8 and Lablift IV while they are otherwise operating.

DATES: This rule is effective from 12 a.m. November 18, 2002 through 11:59 p.m. February 28, 2003. Comments must be received on or before January 8, 2003.

ADDRESSES: Comments may be mailed to the Marine Safety Office Boston, 455 Commercial Street, Boston, MA 02109. All comments and those documents indicated in this preamble are available for inspection or copying at Marine Safety Office Boston, 455 Commercial Street, Boston, MA 02109, between the hours of 8 a.m. and 3 p.m., Monday through Friday, except Federal holidays.

FOR FURTHER INFORMATION CONTACT: Chief Petty Officer Daniel Dugery, Marine Safety Office Boston, Waterway Safety and Response Division, at (617) 223-3000.

SUPPLEMENTARY INFORMATION:

Request for Comments

The Coast Guard encourages interested persons to participate in this rulemaking by submitting written data, views, or arguments. Persons submitting comments should include their names and addresses, identify this rulemaking (CGD01-02-131) and the specific section of this document to which each comment applies, and give the reason for each comment.

Please submit two copies of all comments and attachments in an unbound format, no larger than 8½ by 11 inches, suitable for copying and electronic filing. Persons wanting acknowledgment of receipt of comments should enclose stamped, self-addressed postcards or envelopes. The Coast Guard will consider all comments received during the comment period. It may change this proposed rule in view of the comments.

The Coast Guard plans no public hearing. Persons may request a public hearing by writing to the Marine Safety Office at the address under ADDRESSES. The request should include the reasons why a hearing would be beneficial. If it determines that the opportunity for oral presentations will aid this rulemaking, the Coast Guard will hold a public hearing at a time and place announced by a later notice in the Federal Register.

Regulatory History

Pursuant to 5 U.S.C. 553, a notice of proposed rulemaking (NPRM) was not published for this regulation. Good cause exists for not publishing a NPRM and for making this rule effective less than 30 days after Federal Register publication because specific information regarding the drilling and blasting was not provided to the Coast Guard by the Hubline Project until November 6, 2002, making the proposed rule too vague to solicit comments, thus impossible to draft or publish a NPRM or a final rule 30 days in advance of its effective date. The rule is effective immediately as any delay encountered in this regulation's effective date would be contrary to public interest since immediate action is needed to protect the public from the hazards of marine blasting and to protect the vessels Drillboat No. 8 and Lablift IV, which will be carrying explosives used in this operation, from possible acts of terrorism or other sabotage.

The zones affect a small area of water only while the drill barges are conducting drilling and blasting operations and while the vessels are transiting with explosives (on-board) and when they are moored to Conley Marine terminal in order to load and discharge explosives.

Background and Purpose

As part of the Hubline Pipeline Project that will be placing a 30-inch, 800-PSI natural gas pipeline beneath the sea floor between Salem Sound and Quincy Bay, MA, several locations along this planned route have areas of bedrock that need to be removed to ensure the placement of the pipeline at a specific depth. Algonquin Pipeline and Great Lakes Dredge and Dock Company approached the Coast Guard to establish a safety and security zone around the Drillboat No. 8 and Lablift IV to protect the public and the drill vessels themselves. After meeting with all parties involved, the Captain of the Port is placing these safety and security zones around the above listed vessels to protect them from potential acts of terrorism and to protect the marine public from the hazards associated with marine blasting. This rule establishes safety and security zones on the waters surrounding the Drillboat No. 8 and Lablift IV. The zones extend 600 yards around the vessels one hour prior to and after blasting operations and 400 yards while the barge is otherwise operating. Blasting operations will take place at various locations and at various times along the track line of the project. A local notice to mariners and safety marine information broadcast will identify the time and location of the blasting and whether the zones are in effect. These zones are in effect only while there are explosives on board the vessels.

The safety and security zone around each vessel is in effect from November 18, 2002 through February 28, 2003. Marine traffic may safely transit outside of the safety and security zone in Broad Sound during the effective period and while the vessel in transiting to and from Conley Marine Terminal. The Captain of the Port will allow access as necessary through the zones where the zones impinge on navigation channels within other blasting areas. Public notifications will be made via safety marine information broadcasts, local notice to mariners, notification of local pilots, and notification of parties in the areas that the project will affect as operations proceed.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, l979). The Coast Guard expects the economic impact of this rule to be minimal enough that a full Regulatory Evaluation under paragraph 10e of the regulatory policies and procedures of DOT is unnecessary.

Although this rule prevents traffic from transiting into a portion of the above mentioned waters, the effect of this rule will be minimal for several reasons: Number of private vessels transiting the area is significantly less in the winter months, vessels will only be restricted from the safety and security zones during blasting operations or when the Drillboat No. 8 and Lablift IV are moored at Conley Marine Terminal, South Boston, MA. The majority of the track line for the project is in open waters with large areas for vessels to transit safely around the project. Advance notifications will be made to the local maritime community by safety marine information broadcasts, local notice to mariners, contact with local pilots, and contact with affected parties.

For areas of restricted waterways such as inshore areas in Quincy Bay, vessels may transit through the zones as necessary with Captain of the Port approval, and vessels may safely transit outside of the safety and security zones without restriction.

Small Entities

Under the Regulatory Flexibility Act (5 U.S.C. 601-612), the Coast Guard considered whether this rule would have a significant economic impact on a substantial number of small entities. The Coast Guard and Hubline project contractors have been in contact with local maritime concerns and are coordinating activities with entities such as commuter boats and fishing associations to minimize any impact the project may have on them. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit or anchor in a portion of the above mentioned waters while the zones are in effect. For reasons enumerated under the Regulatory Evaluation section above this safety zone will not have significant economic impact on small entities.

Collection of Information

This rule calls for no new collection of information under the Paperwork Reduction Act of 1995 (44 U.S.C. 3501-3520).

Federalism

The Coast Guard analyzed this rule under Executive Order 13132, Federalism, and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule does not impose an unfunded mandate.

Taking of Private Property

This rule does not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard analyzed this rule under Executive Order 13045, Protection of Children from Environmental Health Risks and Safety Risks. This rule is not an economically significant rule and does not pose an environmental risk to health or risk to safety that may disproportionately affect children.

Indian Tribal Governments

This proposed rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

The Coast Guard considered the environmental impact of this rule and concluded that, under figure 2-1, (34)(g), of Commandant Instruction M16475.lD, this rule is categorically excluded from further environmental documentation. A “Categorical Exclusion Determination” is available in the docket where indicated under ADDRESSES.

Energy Effects

We have analyzed this rule under Executive Order 13211, Actions Concerning Regulations that Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. Add temporary section 165.T01-131:

§ 165.T01-131 Safety and Security Zones; Drilling and Blasting Operations, Hubline Project, Captain of the Port Boston, Massachusetts.

(a) Location. The following areas are safety and security zones surrounding the Drillboat No. 8 and Lablift IV while operating in Danvers, MA, the Danvers River, Salem Sound, Broad Sound, Nantasket Roads, Quincy Bay and Weymouth Fore River to Quincy, MA, Boston Harbor, or any location the vessels may have to shelter in emergency situations.

(1) 600 yards around the vessels Drillboat No. 8 and Lablift IV one hour prior to, during, and one hour after all blasting operations;

(2) 400 yards around the Drillboat No. 8 and Lablift during operations other than blasting and while moored at Conley Marine Terminal, South Boston, MA for loading and unloading explosives.

(b) Periods of enforcement. The security and safety zones will be enforced only when explosives are on board the Drillboat No. 8 and Lablift IV or when loading and unloading operations are in progress.

(c) Effective date. This section is effective from 12 a.m. November 18, 2002 through 11:59 p.m. February 28, 2003.

(d) Regulations.

(1) The general regulations contained in 33 CFR 165.23 and 33 CFR 165.33 apply.

(2) All individuals and vessels shall comply with the instructions of the COTP or the designated on-scene U.S. Coast Guard patrol personnel. On-scene Coast Guard patrol personnel including commissioned, warrant, and petty officers of the Coast Guard on board Coast Guard, Coast Guard Auxiliary, local, state, and federal law enforcement vessels.

Dated: November 15, 2002.
B.M. Salerno,
Captain, U.S. Coast Guard, Captain of the Port, Boston, Massachusetts.

[FR Doc. 02-30928 Filed 12-6-02; 8:45 am]

BILLING CODE 4910-15-P